DEPARTMENT OF ENERGY

Federal Energy Regulatory Commission

[Docket No. CP08-48-000; Docket No. CP91-50-004]

Puget Sound Energy, Inc.; SOCCO, Inc. Sumas Pipeline Company; Sumas Cogeneration Company, L.P.; Notice of Application To Transfer Natural Gas Act Section 3 Authorization and Presidential Permit

January 4, 2008.

On December 21, 2007, Puget Sound Energy, Inc. (Puget), SOCCO, Inc. (SOCCO), Sumas Pipeline Company (SPC), and Sumas Cogeneration Company, L.P. (SCCLP) (collectively, the Applicants) filed an application pursuant to section 3 of the Natural Gas Act (NGA) and section 153 of the Commission's Regulations and Executive Order No. 10485, as amended by Executive Order No. 12038, and the Secretary of Energy's Delegation Order No. 00-004.00A, effective May 16, 2006, seeking authorization to transfer SCCLP's existing NGA section 3 authorization and Presidential Permit to Puget, SOCCO, and SPC, all as more fully set forth in the application which is on file with the Commission and open to the public for inspection. This filing is available for review at the Commission or may be viewed on the Commission's Web site at http://www.ferc.gov, using the “eLibrary” link. Enter the docket number excluding the last three digits in the docket number field to access the document. For assistance, please contact FERC Online Support at FERCOnlineSupport@ferc.gov or toll-free at (866) 208-3676, or for TTY, contact (202) 502-8659.

Any questions regarding the application may be directed to: Pamela J. Anderson, Attorney for Puget Sound Energy, Inc., Van Ness Feldman, PC, 719 Second Avenue, Suite 1150, Seattle, Washington 98112, or call (206) 623-9372; or Matthew M. Schreck, Attorney for SOCCO, Inc., Sumas Pipeline Company, and Sumas Cogeneration Company, L.P., Corbett & Schreck, P.C., 9525 Katy Freeway, Suite 420, Houston, Texas 77024, or call (713) 444-6687.

Specifically, SCCLP, Puget, SOCCO, and Sumas, and Sword request the Commission to issue an order: (1) Transferring SCCLP's NGA section 3 authorization to Puget, SOCCO, and Sumas for the operation and maintenance of facilities for the importation of natural gas from the Province of British Columbia, Canada, into Whatcom County, Washington; and (2) authorizing the assignment of SCCLP's May 1, 1991, as subsequently amended, Presidential Permit for the operation and maintenance of facilities at the British Columbia, Canada/Washington import point.

The import facilities consist of (1) an interconnection with Westcoast Energy, Inc., at the international border between Canada and the United States, and (2) an 8-inch diameter pipeline located directly south of the Sumas gas meter station that crosses the Canada-United States border near or within the City of Sumas in Whatcom County, extending a distance of approximately 3.79 miles. The 8-inch diameter pipeline interconnects with the Sumas tie-in station at the 125-megawatt gas-fired Sumas cogeneration power plant owned and operated by SCCLP.

Applicants state that the border facilities will remain in place and operation following the requested transfer and assignment. Applicants also state that they are not proposing to construct and operate any new facilities. Applicants further state that there are no current third party service agreements associated with the facilities, service has not been offered to the public, and that the import and transportation of Canadian natural gas would be solely for use by the Applicants' (owners) respective facilities.

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

The Commission strongly encourages electronic filings of comments, protests, and interventions via the Internet in lieu of paper. See 18 CFR 385.2001(a)(1)(iii) and the instructions on the Commission's Web site (http://www.ferc.gov) under the “e-Filing” link.

Comment Date: January 25, 2008.

Kimberly D. Bose,
Secretary.

[FR Doc. E8-398 Filed 1-11-08; 8:45 am]

BILLING CODE 6717-01-P